DEPARTMENT OF JUSTICE

Office of Justice Programs

[OJP (NIJ) Docket No. 1504]

Walk-Through and Handheld Metal Detector Standards Panel

AGENCY: National Institute of Justice.

ACTION: Notice of request for proposals for Certification Expertise.

SUMMARY: The National Institute of Justice (NIJ) is in the process of revising the Walk-through and Handheld Metal Detector Standards and developing corresponding certification program requirements. This work is being performed by a panel of experts, comprised of practitioners from the field, researchers, testing experts, certification experts, and representatives from stakeholder organizations. The panel members will participate in four 2-day meetings over a 7-month time period with the goal of completing development of the standards and certification program requirements. It is anticipated that panel meetings will begin in early November 2009. Travel expenses and per diem will be reimbursed for all panel meetings; however, participation time will not be funded.

NIJ is seeking certification bodies with experience in programs for similar types of electronic equipment. Additional preferred knowledge includes experience with metal detectors or experience with corrections, courts or school safety. There are two positions to be filled on the panel, and NIJ will accept the first 10 submissions for review.

Interested parties are requested to nominate individuals from their organizations and submit no more than two pages describing the nominee's applicable experience, preferred knowledge, and affiliations with standards development organizations. This information shall be submitted to Casandra Robinson at Casandra.robinson@usdoj.gov by October 9, 2009. The submissions will be reviewed, and participants will be notified regarding their acceptance by October 16, 2009.

FOR FURTHER INFORMATION CONTACT: Casandra Robinson by telephone at 202-305-2296 [Note: this is not a toll-free telephone number], or by e-mail at Casandra.robinson@usdoj.gov.

Kristina Rose,
Acting Director, National Institute of Justice.

[FR Doc. E9-24903 Filed 10-15-09; 8:45 am]

BILLING CODE 4410-18-P